JUDICIAL CONFERENCE OF THE UNITED STATES

Advisory Committee on Bankruptcy Rules; Meeting of the Judicial Conference

AGENCY: Judicial Conference of the United States.

ACTION: Advisory Committee on Bankruptcy Rules, notice of open meeting.

SUMMARY: The Advisory Committee on Bankruptcy Rules will hold a meeting on April 8, 2021 and April 9, 2021 in San Diego, CA. The meeting will be open to public observation but not participation. An agenda and supporting materials will be posted at least 7 days in advance of the meeting at: http://www.uscourts.gov/rules-policies/records-and-archives-rules-committees/agenda-books.

DATES: April 8-9, 2021, 9 a.m.-5 p.m. (Pacific).

FOR FURTHER INFORMATION CONTACT: Rebecca A. Womeldorf, Secretary, Committee on Rules of Practice and Procedure of the Judicial Conference of the United States, Thurgood Marshall Federal Judiciary Building, One Columbus Circle NE, Suite 7-300, Washington, DC 20544, Phone (202) 502-1820, RulesCommittee_Secretary@ao.uscourts.gov.

Authority: 28 U.S.C. 2073.

Dated: January 11, 2021.
Rebecca A. Womeldorf,
Rules Committee Secretary, Rules Committee Staff.

[FR Doc. 2021-00675 Filed 1-13-21; 8:45 am]

BILLING CODE 2210-55-P